DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KA, Office of the Assistant Secretary for Children and Families (OAS) as last amended January 2, 1998 (63 FR 81-87) and Chapter KP, Office of the Deputy Assistant Secretary for Administration (ODASA) as last amended February 27, 2001 (66 FR 12525-28) and April 9, 2001 (66 FR 18487). This notice realigns the Executive Secretariat Office from the Office of the Deputy Assistant Secretary for Administration to the Office of the Assistant Secretary for Children and Families.

These Chapters are amended as follows:

I. Chapter KA, Office of the Assistant Secretary for Children and Families.

A. Delete KA.10 Organization in its entirety and replace with the following:

KA.10 Organization. The Office of the Assistant Secretary for Children and Families is headed by the Assistant Secretary who reports directly to the Secretary and consists of:

—The Office of the Assistant Secretary (KA).

—President's Committee on Mental Retardation Staff (KAD).

—The Executive Secretariat Office (KAF).

B. Amend KA.20 Functions to add the following new paragraph:

C. The Executive Secretariat Office (ExecSec) ensures that issues requiring the attention of the Assistant Secretary, Deputy Assistant Secretaries and/or executive staff are addressed on a timely and coordinated basis and facilitates decisions on matters requiring immediate action including White House, Congressional and Secretarial assignments. The Office serves as the ACF liaison with the HHS Executive Secretariat. It receives, assesses and controls incoming correspondence and assignments to the appropriate ACF component(s) for response and action and provides assistance and advice to ACF staff on the development of responses to correspondence. The Office provides assistance to ACF staff on the use of the controlled correspondence system. The Office coordinates and/or prepares congressional correspondence; and tracks development of periodic reports and facilitates departmental clearances. The Director of the Executive Secretariat Office serves as the Freedom of Information Act Officer for ACF and coordinates hot line calls received by the Office of Inspector General and the General Accounting Office relating to ACF operations and personnel.

II. Chapter KP, Office of the Deputy Assistant Secretary for Administration.

A. Delete KP.00 Mission in its entirety and replace with the following:

KP.00 Mission. The Deputy Assistant Secretary for Administration serves as principal advisor and counsel to the Assistant Secretary for Children and Families on all aspects of personnel administration and management, information resource management, financial, grants policy and procurement issues, staff development and training activities, organizational development and organizational analysis, administrative services and facilities management and state systems policy. Oversees the ACF Equal Employment Opportunity and Civil Rights program and all special initiatives activities for ACF.

B. Amend KP.10 Organization to delete “Executive Secretariat Office (KPG).”

C. Amend KP.20 Functions to delete paragraph G, in its entirety.

Dated: September 28, 2001.
Wade F. Horn,
Assistant Secretary for Children and Families.

[FR Doc. 01-25995 Filed 10-15-01; 8:45 am]

BILLING CODE 4184-01-M